ENVIRONMENTAL PROTECTION AGENCY

[EPA-HQ-OPP-2010-0548; FRL-8863-6]

Petition for a Ban on Triclosan; Notice of Availability; Extension of Comment Period

AGENCY: Environmental Protection Agency (EPA).

ACTION: Notice; extension of comment period.

SUMMARY: EPA issued a notice in the Federal Register of December 8, 2010 concerning the availability of a petition submitted by Beyond Pesticides and Food & Water Watch to the Environmental Protection Agency for review and public comment. The petition asks EPA to use its authority under various statutes to regulate triclosan. In a letter to the EPA dated January 22, 2011, Beyond Pesticides and Food & Water Watch requested a 60 day extension to the comment period. In response to this request, this document extends the comment period for 60 days, from February 7, 2011 to April 8, 2011.

DATES: Comments, identified by docket identification (ID) number EPA-HQ-OPP-2010-0548, must be received on or before April 8, 2011.

ADDRESSES: Follow the detailed instructions as provided under ADDRESSES in the Federal Register document of December 8, 2010.

FOR FURTHER INFORMATION CONTACT: Timothy F. McMahon, Antimicrobials Division (7510P), Office of Pesticide Programs, Environmental Protection Agency, 1200 Pennsylvania Ave., NW., Washington, DC 20460-0001; telephone number: (703) 308-6342; e-mail address: mcmahon.tim@epa.gov.

SUPPLEMENTARY INFORMATION: This document extends the public comment period established in the Federal Register of December 8, 2010 (75 FR 764613) (FRL-8852-8). In that document, the Agency made available for review and public comment a petition submitted by Beyond Pesticides and Food & Water Watch (hereafter referred to as “the petitioners”) to the Environmental Protection Agency (hereafter referred to as “EPA” or “the Agency”), asking EPA to use its authority under various statutes to regulate triclosan. Triclosan is an antimicrobial substance used in pesticide products, hand sanitizers, toothpaste, and other consumer products. The petitioners claim that the “pervasive and widespread use” of triclosan poses significant risks to human health and the environment. In addition, the petitioners claim that the “agency failed to address the impacts posed by triclosan's degradation products on human health and the environment, failed to conduct separate assessments for triclosan residues in contaminated drinking water and food, and is complacent in seriously addressing concerns related to antibacterial resistance and endocrine disruption.” Under the Federal Insecticide, Fungicide, and Rodenticide Act (FIFRA) and the Federal Food, Drug, and Cosmetic Act (FFDCA), the petitioners ask EPA to act to cancel and suspend the registration of pesticides containing triclosan. Under the Clean Water Act (CWA), the petitioners request that the Administrator impose technology-based effluent limitations, health-based toxic pollutant water quality pretreatment requirements, and biosolids regulation for triclosan. Under the Safe Drinking Water Act (SDWA), the petitioners request that the Administrator conduct a comprehensive assessment of the appropriateness of regulating triclosan under SDWA. Under the Endangered Species Act (ESA), the petitioners request that the Administrator comply fully with ESA, including consultation and biological assessment requirements. In a letter submitted to the Agency dated January 22, 2011, Beyond Pesticides and Food & Water Watch requested a 60 day extension to the comment period. EPA is hereby extending the comment period, which was set to end on February 7, 2011, to April 8, 2011.

To submit comments, or access the docket, please follow the detailed instructions as provided under ADDRESSES in the December 8, 2010 Federal Register document. If you have questions, consult the person listed under FOR FURTHER INFORMATION CONTACT.

List of Subjects

Environmental protection, Antimicrobial, Pesticides and pest, Triclosan, Endocrine.

Dated: January 26, 2011.
Joan Harrigan Farrelly,
Director, Antimicrobials Division, Office of Pesticide Programs.

[FR Doc. 2011-2267 Filed 2-1-11; 8:45 am]

BILLING CODE 6560-50-P